DEPARTMENT OF AGRICULTURE

Food and Nutrition Service

Agency Information Collection Activities: Proposed Collection; Comment Request—Formative Research for the Pilot of a Garden-Related Nutrition Curriculum

AGENCY: Food and Nutrition Service, Department of Agriculture.

ACTION: Notice.

SUMMARY: In accordance with the Paperwork Reduction Act of 1995, this notice invites the general public and other public agencies to comment on this proposed information collection. This collection is a new collection for Formative Research for the Pilot of a Garden-Related Nutrition Curriculum.

DATES: Written comments must be received on or before August 1, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Alicia White, Food and Nutrition Service, Department of Agriculture, 3101 Park Center Drive, Room 632, Alexandria, VA 22302. Comments may also be submitted via fax to the attention of Alicia White at 703-305-2549 or via e-mail to Alicia.White@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Direct requests for additional information regarding the collection listed in this notice, including requests for copies of the proposed information collection and supporting documents, to Alicia H. White, MS, RD, Senior Nutritionist, Child Nutrition Division, Food and Nutrition Service, Department of Agriculture.

SUPPLEMENTARY INFORMATION:

Title: Formative Research for the Pilot of a Garden-Related Nutrition Curriculum.

Form/OMB Control Number: 0584-NEW.

Expiration Date: Not Yet Determined.

Type of Request: New Collection.

Abstract: As authorized under Section 6(a)(3) of the Richard B. Russell National School Lunch Act, 42 USC 1755(a)(3), the Department of Agriculture's Food and Nutrition Service (FNS) provides training and technical assistance for school foodservice, nutrition education for children and their caregivers, and encourages school and community support for healthy eating and physical activity. These activities are implemented under the Agency's Team Nutrition initiative that is designed to improve children's lifelong eating and physical activity habits by using the principles of the Dietary Guidelines for Americans.

Under the Team Nutrition initiative, FNS is developing garden-related nutrition education lessons that promote fruit and vegetable consumption while meeting education standards for academic course content for grades three and four. These lesson plans will fill a need for a national nutrition education curriculum that connects and reinforces farm-to-school, school garden, and school meal initiatives.

To ensure that the developed curriculum is easy-to-implement in the school environment and has the intended effect upon children's fruit and vegetable preferences, FNS plans to conduct formative piloting of the curriculum for 3rd and 4th grade students. The pilot will assess how the curriculum was implemented (process measures) by 3rd and 4th grade teachers and gather feedback from teachers and other relevant school staff regarding the curriculum implementation, including ease-of-use, clarity, lesson quality and feasibility, and perceived student and parent receptiveness. The pilot will also measure changes in students' nutrition and food systems (i.e., how food is grown, where it comes from) knowledge and student preferences for and “willingness to taste” featured fruit and vegetables. Students' perceptions of the lesson activities shall also be evaluated. Information gathered from this research will inform curriculum revisions.

A longitudinal, repeated measure, pretest-posttest design with a combination of quantitative and qualitative methods will be used. Three intervention schools with pre-existing school gardens and one comparison school without a garden will be selected to participate. Within each intervention and comparison school, one 3rd grade classroom and one 4th grade classroom will be selected to participate for a total of six intervention and two comparison classrooms. Pre- and posttest questionnaires will be administered to students, teachers, parent/caregivers, and other staff, such as food service personnel and school administrators. Teachers will also be interviewed posttest and asked to maintain a log of curriculum activities.

Affected Public (Individual/Households; State, Local and Tribal Government): 3rd and 4th grade students, their teachers, their parents/caregivers of students, and school foodservice personnel of four schools.

Estimated Number of Respondents: The total estimated number of participants is 492. Representing 4 participating schools, this includes: 240 3rd and 4th grade students; 240 parents and caregivers); 8-3rd and 4th grade teachers; and 4 school foodservice managers/directors (one per school). It is anticipated that responders will include 85% of students (204), 30% of parents (72), 75% of teachers (6) and 75% of food service personnel (3).

Estimated Number of Responses per Respondent: Representing the three participating garden schools, all 3rd and 4th grade students will be asked to participate in a pre-intervention (pretest) survey, post-intervention (posttest) survey, and a student garden monitoring survey for a total of three responses each. Representing the one non-garden school, all 3rd and 4th grade students will be asked to participate in a pre-intervention (pretest) survey and a post-intervention (posttest) survey, for a total of two responses each. The 3rd and 4th grade classroom teachers will be asked to participate in one pre-intervention (pretest) survey, and one each at posttest, a survey, an interview, and a Curriculum Implementation Log, for a total of five responses each. The parents/caregivers will be asked to participate in one pre-intervention (pretest) survey, and one at posttest, for a total of two responses each. Finally, the school foodservice manager or director will be asked to participate in a posttest survey, for a total of one response each.

Estimated Total Annual Responses: 1,183.

Estimated Time per Response: The estimated time per response varies from 0.08 to 0.5 hr. depending on the respondent group and the instruments used, as shown in the table below.

Estimated Total Annual Burden on Respondents: 201.02 hr.

BILLING CODE 3410-30-P

BILLING CODE 3410-30-C

Respondents: 3rd and 4th grade students, their teachers, their parents/caregivers, and food service personnel.

Estimated Number of Respondents: 492.

Estimated Number of Responses: 1,183.

Average Hours per Response: 0.25 hours per response for students, parents/caregivers and food service personnel; .50 hours for teachers.

Total Estimated Burden: 201.02 hours.

Obligation to Respond: Voluntary.

Dated: May 10, 2011.
Audrey Rowe,
Administrator, Food and Nutrition Service.

[FR Doc. 2011-13621 Filed 6-1-11; 8:45 am]

BILLING CODE 3410-30-P